DEPARTMENT OF AGRICULTURE

Animal and Plant Health Inspection Service

7 CFR Parts 305 and 319

[Docket No. APHIS-2009-0100]

RIN 0579-AD35

Irradiation Treatment; Location of Facilities in the Southern United States

AGENCY: Animal and Plant Health Inspection Service, USDA.

ACTION: Proposed rule.

SUMMARY: We are proposing to amend the phytosanitary treatment regulations to provide generic criteria for new irradiation treatment facilities in the Southern States of the United States. This action would allow irradiation facilities to be located anywhere in these States, subject to approval, rather than only in the currently approved locations. We are also proposing to allow for the irradiation treatment of certain imported fruit from India and Thailand upon arrival in the United States. This action would facilitate the importation of fruit requiring irradiation treatment while continuing to provide protection against the introduction of pests of concern into the United States.

DATES: We will consider all comments that we receive on or before November 28, 2011.

ADDRESSES: You may submit comments by either of the following methods:

• Federal eRulemaking Portal: Go to http://www.regulations.gov/#!documentDetail;D=APHIS-2009-0100-0001.

• Postal Mail/Commercial Delivery: Send your comment to Docket No. APHIS-2009-0100, Regulatory Analysis and Development, PPD, APHIS, Station 3A-03.8, 4700 River Road Unit 118, Riverdale, MD 20737-1238.

Supporting documents and any comments we receive on this docket may be viewed at http://www.regulations.gov/#!docketDetail;D=APHIS-2009-0100 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Dr. Inder P. S. Gadh, Senior Risk Manager-Treatments, PPQ, APHIS, 4700 River Road Unit 133, Riverdale, MD 20737-1236; (301) 734-0627.

SUPPLEMENTARY INFORMATION:

Background

The phytosanitary treatment regulations contained in 7 CFR part 305 (referred to below as the regulations) set out the general requirements for performing treatments and certifying or approving treatment facilities for fruits, vegetables, and other articles to prevent the introduction or dissemination of plant pests or noxious weeds into or through the United States. The Animal and Plant Health Inspection Service (APHIS) of the U.S. Department of Agriculture administers these regulations.

Irradiation Treatment in Southern States

The regulations in § 305.9 set out irradiation treatment requirements for imported regulated articles; regulated articles moved interstate from Hawaii, Puerto Rico, and the U.S. Virgin Islands; and regulated articles moved interstate from areas quarantined for certain pests of concern. Under § 305.9, all facilities used to provide irradiation treatment for these articles must operate under a compliance agreement with APHIS and be certified as capable of delivering required irradiation treatment dosages and handling articles to prevent reinfestation of treated articles. An inspector ¹ monitors all treatments. The regulations require regulated articles to be transported to the facility and handled prior to treatment without significant risk that pests will escape. Safeguards to prevent the escape of pests during transportation to and while at the facility include inspections, physical separation of untreated and treated articles, packaging of regulated articles in sealed, insect-proof cartons, and shipping cartons in sealed containers. Seals must visually indicate if the cartons or containers have been opened. The facility must maintain records of all treatments and must periodically be recertified. These conditions have allowed for the safe, effective treatment of many different kinds of articles, as is demonstrated by the track record of irradiation treatment facilities currently operating in Hawaii and other countries.

¹ The regulations define an inspector as “Any individual authorized by the Administrator of APHIS or the Commissioner of Customs and Border Protection, Department of Homeland Security, to enforce the regulations in this part.”

In § 305.9, paragraph (a)(1) allows irradiation treatment facilities to be located in any State of the United States, except for the Southern States of Alabama, Arizona, California, Florida, Georgia, Kentucky, Louisiana, Mississippi, Nevada, New Mexico, North Carolina, South Carolina, Tennessee, Texas, and Virginia. When the irradiation regulations were established, these Southern States were identified as having conditions favorable for the establishment of exotic fruit flies. The location restrictions served as an additional safeguard against the possibility that fruit flies could escape from imported articles prior to treatment and become established in the United States.

The regulations do allow irradiation facilities to be located at the maritime ports of Gulfport, MS, Wilmington, NC, and the airport of Atlanta, GA, although no irradiation facilities have been established in these locations. APHIS conducted site-specific evaluations for these three locations and determined that regulated articles can be safely transported to irradiation facilities at these locations under special conditions to mitigate the possible escape of pests of concern.

APHIS has received a petition to open an irradiation facility in McAllen, TX, to treat imported articles or articles moved interstate within the United States. In addition, the irradiation industry has shown considerable interest in locating irradiation facilities in the Southern United States, especially in proximity to the Mexican border. Currently, no irradiation facility is available near the Mexican border. Locating irradiation facilities in the Southern States would allow importers to treat a number of imported articles with irradiation for which no other treatment is available and which currently must be shipped long distances for treatment, such as guavas from Mexico. Locating irradiation facilities in the Southern States would also facilitate the export of certain commodities such as peaches and stone fruits to countries to the south of the United States.

In response to this request and in anticipation of future requests to locate additional irradiation facilities in the Southern States of the United States, we are proposing to establish generic phytosanitary criteria to replace the current criteria for irradiation facilities at the maritime ports of Gulfport, MS, Wilmington, NC, and the airport of Atlanta, GA, and apply to new irradiation treatment facilities in the Southern States of the United States. Under these criteria, in conjunction with the current criteria for irradiation facilities not located in the Southern States, new irradiation facilities could be established in all the Southern States for the treatment of regulated articles that are imported, moved interstate from Hawaii or U.S. territories, or moved interstate from areas quarantined for certain pests of concern. These generic criteria would be supplemented as necessary by additional measures, which would be described in a compliance agreement (discussed below), based on pests of concern associated with specific regulated articles to be treated at the facility and the location of the specific facility.

Using APHIS-approved irradiation facilities located in the United States to treat imported articles offers the advantage of greater ease of monitoring treatment. Using generic criteria for future irradiation facilities located in Southern States would make explicit our criteria for approving these facilities while eliminating the need to undertake rulemaking in order to approve new facilities.

As part of this action, we have prepared a treatment evaluation document (TED) entitled “Generic Phytosanitary Criteria for Establishing Locations for Irradiation Facilities in the Southern United States.” Copies of the TED may be obtained from the person listed under FOR FURTHER INFORMATION CONTACT and may be viewed on the Internet on the Regulations.gov Web site or in our reading room (see ADDRESSES above for a link to Regulations.gov and information on the location and hours of the reading room). In the TED, we concluded that the pest risks from irradiation facilities in the Southern States can be adequately managed through the use of special conditions to mitigate the possible escape of pests of concern.

We are therefore proposing to amend the regulations by replacing the current criteria for irradiation facilities at the maritime ports of Gulfport, MS, Wilmington, NC, and the airport of Atlanta, GA, in paragraph (a)(1) of § 305.9 with generic phytosanitary criteria for any irradiation facility in a Southern State. The new criteria would have to be followed in addition to the current requirements that apply to all irradiation facilities. The proposed generic criteria for new facilities in the Southern States are based on the current conditions for allowing irradiation facilities at the maritime ports of Gulfport, MS, Wilmington, NC, and the airport of Atlanta, GA. As no irradiation facilities have been established in these three locations, the proposed generic criteria would not impact any existing irradiation facilities.

In paragraph (a)(1)(i) of § 305.9, we are proposing that prospective facility operators in Southern States would have to submit a detailed layout of the facility site and its location to APHIS. APHIS would evaluate plant health risks based on the proposed location and layout of the facility site before a facility was approved. APHIS would only approve a proposed facility if the Administrator determines that regulated articles can be safely transported to the facility from the port of entry or points of origin in the United States. Proposed paragraph (a)(1)(ii) of § 305.9 provides that the government of the Southern State in which the facility would be located would also have to concur in writing with the establishment of the irradiation facility; if it does not concur, the State government must provide a written explanation of concern based on pest risks. In instances where the State government does not concur with the proposed facility location, APHIS and the State would need to agree on a strategy to resolve such risks before APHIS approved the facility.

Under this proposal, paragraphs (a)(1)(iii) and (a)(1)(iv) of § 305.9 would require irradiation facilities in Southern States to meet certain conditions that are currently required for irradiation facilities at the maritime ports of Gulfport, MS, or Wilmington, NC, or the airport of Atlanta, GA. These paragraphs would provide, respectively, that untreated articles may not be removed from their packaging prior to treatment under any circumstances, and that facilities must have contingency plans, approved by APHIS, for safely destroying or disposing of regulated articles if the facility was unable to properly treat a shipment.

Under this proposal, paragraph (a)(1)(v) of § 305.9 would only allow irradiation facilities in Southern States to treat articles that are approved by APHIS for treatment at that facility. If, during the approval process for regulated articles at irradiation facilities in Southern States, additional safeguards are deemed necessary during transport or while at the irradiation facilities for the pests of concern, the compliance agreement for the facility would be amended accordingly.

Under proposed paragraph (a)(1)(vi) of § 305.9, arrangements for treatment would need to be made before the departure of a consignment from its port of entry or points of origin in the United States. This would mean that untreated shipments of regulated articles arriving at the facility would not have to wait for an extended period of time for irradiation treatment. The expeditious treatment of the articles would minimize the risk of pests of concern maturing in fruits, vegetables, and other articles.

The current regulations for irradiation facilities at the maritime ports of Gulfport, MS, or Wilmington, NC, or the airport of Atlanta, GA, prohibit the movement of untreated fruits and vegetables through the Southern States and require that the irradiation facility and APHIS agree in advance on the route by which shipments are allowed to move to the irradiation facility. For irradiation facilities in Southern States, we are proposing in paragraph (a)(1)(vi) of § 305.9 that APHIS and the irradiation facility would have to agree in advance about all parameters, such as time, routing, and conveyance, by which every consignment would move from the port of entry or points of origin in the United States to the irradiation facility. In most instances, the route would be determined by establishing the shortest route between the port of entry or points of origin in the United States and the irradiation facility that does not include an area that contains host material for pests of concern during the time of year that the host material is most abundant in the region. This route would then be used regardless of the time of year, as an area free of host material during the time of year that it is most abundant would be unlikely to grow host material at another time of year. This predetermined route would reduce the amount of time that a shipment would have to wait before undergoing irradiation treatment and would reduce the risk that any pests of concern in the shipments would come into contact with host material en route to the irradiation facility.

In addition to the current requirements to ensure the safe transport of regulated material to and from the irradiation facility, we are also proposing to require in paragraph (a)(1)(vii) that the conveyance transporting the regulated article to the irradiation facility would need to be either refrigerated, via motorized refrigeration equipment or other methods including ice or insulation, or air conditioned to a temperature that would minimize the mobility of the pests of concern for the article. Fruits and vegetables are typically transported in refrigerated or air conditioned conveyances in order to preserve freshness of the commodity and prevent development of toxins that may affect their flavor.

The current regulations for irradiation facilities at the maritime ports of Gulfport, MS, or Wilmington, NC, or the airport of Atlanta, GA, require blacklight or sticky paper to be used within the irradiation facility and other trapping methods to be used within the 4 square miles surrounding the facility. To minimize the presence of host material for the pests of concern for irradiation facilities in Southern States generally, we are proposing in paragraph (a)(1)(viii) of § 305.9 that the facility maintain and provide APHIS an updated map identifying places where horticultural or other crops are grown within 4 square miles of the facility. APHIS will use this information to determine if any host material of concern is present. To help prevent establishment of pests in the unlikely event that they escape despite the required precautions, the location of any host material within 4 square miles of the facility would necessitate specific trapping or other pest monitoring activities to help prevent establishment of any escaped pests of concern, which would be funded by the facility and described in the compliance agreement. All trapping and pest monitoring activities would need to be approved by APHIS. Such activities would include the use of blacklight or sticky paper within the irradiation facility, as required in the current regulations for irradiation facilities at the maritime ports of Gulfport, MS, or Wilmington, NC, or the airport of Atlanta, GA. The irradiation facility would also need to have a pest management plan within the facility.

Irradiation facilities would also be required to comply with any additional requirements that APHIS might require for a particular facility based on local conditions and any other risk factors of concern. This could include inspection for certain pests for which irradiation is not an approved treatment. Proposed paragraph (a)(1)(ix) of § 305.9 would require that facilities comply with any additional APHIS requirements. These requirements would be contained in a compliance agreement, which is currently required for all facilities in paragraph (c) of § 305.9. In that paragraph, we are proposing to add that compliance agreements for facilities in Southern States may contain additional provisions.

Irradiation Facilities in All the United States

Currently, as part of the approval process for irradiation facilities, APHIS considers whether a proposed irradiation facility is located within the local commuting area for APHIS employees so that they will be able to perform the oversight and monitoring activities required by § 305.9. When imported articles are to be treated at a facility, APHIS also considers whether the facility is located within an area over which the U.S. Department of Homeland Security ² has customs authority for enforcement purposes. We are proposing to revise paragraph (e), which contains requirements for monitoring and interagency agreements for irradiation treatment facilities, to require all irradiation facilities to be located within the local commuting area for APHIS employees ³ for oversight and monitoring purposes. For facilities treating imported articles, we are also proposing to require in paragraph (e)(1) of § 305.9, which pertains to monitoring of such facilities, that the location of the facility would have to be within an area over which the U.S. Department of Homeland Security has customs authority for enforcement purposes.

² The U.S. Department of Homeland Security is assigned authority to accept entries of merchandise, to collect duties, and to enforce the provisions of the customs and navigation laws in force.

³ Commuting area would be determined by contacting the local APHIS Plant Protection and Quarantine office, State Plant Health Director, located in each State, Eastern Regional Office, or Western Regional Office.

If regulatory oversight and requirements by other agencies also apply, we are also proposing to require in paragraph (b) of § 305.9, which describes requirements for approval of facilities, that they must concur in writing with the establishment of the facility prior to APHIS approval. For example, irradiation facilities that use a nuclear source would have to receive concurrence from the Nuclear Regulatory Commission, which has jurisdiction over nuclear facilities and materials.

Irradiation of Fruits From India and Thailand

Currently, the regulations in parts 318 and 319 allow the importation of certain fruits from India (mangos), Mexico (guavas), Thailand (litchis, longans, mangoes, mangosteens, pineapples, and rambutans), and Vietnam (dragon fruits), and the interstate movement of several fruits and vegetables from Hawaii, after they have received irradiation treatment. While fruits and vegetables moving from Mexico, Vietnam, and Hawaii may receive irradiation at either the point of origin or upon arrival in the mainland United States, fruit from India and Thailand must be treated prior to arrival in the United States. The regulations in § 305.9, however, allow for irradiation treatment of articles either prior to or after arrival in the United States, provided an APHIS-approved facility is available. The regulations require safeguards to ensure that regulated articles are safely transported to the irradiation facility from the port of arrival without escape of plant pests in transit or at the irradiation facility. These safeguards have successfully prevented the introduction or dissemination of plant pests into or through the United States via the importation or interstate movement of irradiated articles since 1996 when irradiation was first used as a phytosanitary treatment.

We are proposing to amend § 319.56-46 to allow for irradiation treatment of mangos from India in either India or the United States and § 319.56-47 to allow for irradiation treatment of tropical fruits from Thailand in either Thailand or the United States. Fruit from India and Thailand would still be subject to requirements designed to ensure safe transportation of the articles, including insect-proof packaging, inspection, and issuance of a phytosanitary certificate by the national plant protection organization of the country of export. Based on our experience with India's and Thailand's compliance with these requirements for fruit currently irradiated in these countries, we are confident that these countries have the ability to comply with all APHIS requirements and fruit from these countries could be safely treated in the United States.

Executive Order 12866 and Regulatory Flexibility Act

This proposed rule has been determined to be significant for the purposes of Executive Order 12866 and, therefore, has been reviewed by the Office of Management and Budget.

We have prepared an economic analysis for this rule. The economic analysis provides a cost-benefit analysis, as required by Executive Order 12866, and an analysis of the potential economic effects of this action on small entities, as required by the Regulatory Flexibility Act. The economic analysis is summarized below. Copies of the full analysis are available by contacting the person listed under FOR FURTHER INFORMATION CONTACT or on the Regulations.gov Web site (see ADDRESSES above for instructions for accessing Regulations.gov).

The proposed rule would allow for irradiation treatment of tropical fruits from India and Thailand in either the exporting country or the United States and for the establishment of irradiation facilities in the Southern United States. Using APHIS-approved irradiation facilities located in the United States to treat imported articles offers the advantage of greater ease of monitoring treatment.

The proposed rule would benefit U.S. entities by clearly presenting the criteria that would govern the approval of additional irradiation facilities in the Southern United States, thereby facilitating their establishment. APHIS has not identified any costs associated with establishing the generic criteria for irradiation facility approval described in this the proposed rule. Beyond helping to make the approval of future irradiation facilities in the Southern United States an efficient process, we do not anticipate that the criteria set forth in the proposed rule would result in economic impacts or any significant costs for U.S. entities, large or small based on the available data. APHIS is, however, interested in receiving comments on the potential economic costs associated with the proposed criteria. These criteria include requiring facilities to be within the local commuting area for APHIS employees and within an area over which the U.S. Department of Homeland Security customs authority for enforcement purposes, obtaining written concurrence from the government of the Southern State in which the facility would be located, providing a detailed layout of the facility location, maintaining and providing an updated map identifying places where horticultural or other crops are grown within 4 square miles of the facility, trapping or other pest monitoring activities, agreeing in advance about all parameters by which the consignment will move from the point of entry or origin to the treatment facility, using refrigerated or air conditioned conveyance to transport articles to the facility, ensuring that cartons are off-loaded from conveyances in a safeguarded environment, maintaining physical separation of treated articles from untreated articles, and developing a contingency plan for safely destroying or disposing of untreated or improperly treated articles.

The entities potentially affected by the proposed rule would be the eventual clients of irradiation facilities established in the southern United States. They can be largely classified within the following two industries: Post Harvest Crop Activities (except cotton ginning) (NAICS 115114), and Fresh Fruit and Vegetable Merchant Wholesalers (NAICS 424480).

Under these circumstances, the Administrator of the Animal and Plant Health Inspection Service has determined that this action would not have a significant economic impact on a substantial number of small entities.

Executive Order 12988

This proposed rule has been reviewed under Executive Order 12988, Civil Justice Reform. If this proposed rule is adopted: (1) No retroactive effect will be given to this rule; and (2) administrative proceedings will not be required before parties may file suit in court challenging this rule.

National Environmental Policy Act

To provide the public with documentation of APHIS' review and analysis of any potential environmental impacts associated with providing generic criteria for new irradiation treatment facilities in the Southern States of the United States, we have prepared an environmental assessment. The environmental assessment was prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The environmental assessment may be viewed on the Regulations.gov Web site or in our reading room. (A link to Regulations.gov and information on the location and hours of the reading room are provided under the heading ADDRESSES at the beginning of this proposed rule.) In addition, copies may be obtained by calling or writing to the individual listed under FOR FURTHER INFORMATION CONTACT.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. APHIS-2009-0100. Please send a copy of your comments to: (1) Docket No. APHIS-2009-0100, Regulatory Analysis and Development, PPD, APHIS, Station 3A-03.8, 4700 River Road Unit 118, Riverdale, MD 20737-1238, and (2) Clearance Officer, OCIO, USDA, room 404-W, 14th Street and Independence Avenue, SW., Washington, DC 20250. A comment to OMB is best assured of having its full effect if OMB receives it within 30 days of publication of this proposed rule.

This proposed rule establishes criteria for irradiation facilities in the Southern States. Implementing this proposed rule will require respondents to provide APHIS with an updated map identifying horticultural/crop areas and contingency plans, approved by APHIS, for safely destroying or disposing of regulated articles.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 2.3333 hours per response.

Respondents: Irradiation facilities in Southern United States.

Estimated annual number of respondents: 3.

Estimated annual number of responses per respondent: 2.

Estimated annual number of responses: 6.

Estimated total annual burden on respondents: 14 hours. (Due to averaging, the total annual burden hours may not equal the product of the annual number of responses multiplied by the reporting burden per response.)

Copies of this information collection can be obtained from Mrs. Celeste Sickles, APHIS' Information Collection Coordinator, at (301) 851-2908.

E-Government Act Compliance

The Animal and Plant Health Inspection Service is committed to compliance with the E-Government Act to promote the use of the Internet and other information technologies, to provide increased opportunities for citizen access to Government information and services, and for other purposes. For information pertinent to E-Government Act compliance related to this proposed rule, please contact Mrs. Celeste Sickles, APHIS' Information Collection Coordinator, at (301) 851-2908.

List of Subjects

7 CFR Part 305

Irradiation, Phytosanitary treatment, Plant diseases and pests, Quarantine, Reporting and recordkeeping requirements.

7 CFR Part 319

Coffee, Cotton, Fruits, Imports, Logs, Nursery stock, Plant diseases and pests, Quarantine, Reporting and recordkeeping requirements, Rice, Vegetables.

Accordingly, we propose to amend 7 CFR parts 305 and 319 as follows:

PART 305—PHYTOSANITARY TREATMENTS

1. The authority citation for part 305 continues to read as follows:

Authority: 7 U.S.C. 7701-7772 and 7781-7786; 21 U.S.C. 136 and 136a; 7 CFR 2.22, 2.80, and 371.3.

2. Section 305.9 is amended as follows:

a. By revising paragraph (a)(1) to read as set forth below.

b. In paragraph (b), by adding a sentence after the first sentence to read as set forth below.

c. By adding a sentence after the paragraph (c) introductory text heading to read as set forth below.

d. In paragraph (e) introductory text, by adding a sentence after the second sentence to read as set forth below.

e. By adding a sentence after the paragraph (e)(1) introductory text heading to read as set forth below.

§ 305.9 Irradiation treatment requirements.

* * * * *

(a) * * *

(1) Where certified irradiation facilities are available, an approved irradiation treatment may be conducted for any imported regulated article either prior to shipment to the United States or in the United States. For any regulated article moved interstate from Hawaii or U.S. territories, irradiation treatment may be conducted either prior to movement to the mainland United States or in the mainland United States. Irradiation facilities may be located in any State on the mainland United States. For irradiation facilities located in the States of Alabama, Arizona, California, Florida, Georgia, Kentucky, Louisiana, Mississippi, Nevada, New Mexico, North Carolina, South Carolina, Tennessee, Texas, and Virginia, the following additional conditions must be met:

(i) Prospective facility operators must submit a detailed layout of the facility site and its location to APHIS. APHIS will evaluate plant health risks based on the proposed location and layout of the facility site. APHIS will only approve a proposed facility if the Administrator determines that regulated articles can be safely transported to the facility from port of entry or points of origin in the United States.

(ii) The government of the State in which the facility is to be located must concur in writing with the establishment of the facility or, if it does not concur, must provide a written explanation of concern based on pest risks. In instances where the State government does not concur with the proposed facility location, APHIS and the State will agree on a strategy to resolve the pest risk concerns prior to APHIS approval.

(iii) Untreated articles may not be removed from their packaging prior to treatment under any circumstances.

(iv) The facility must have contingency plans, approved by APHIS, for safely destroying or disposing of regulated articles if the facility is unable to properly treat a shipment.

(v) The facility may only treat articles approved by APHIS for treatment at the facility. Approved articles will be listed in the compliance agreement required in paragraph (c)(1)(i) of this section.

(vi) Arrangements for treatment must be made before the departure of a consignment from its port of entry or points of origin in the United States. APHIS and the facility must agree on all parameters, such as time, routing, and conveyance, by which the consignment will move from the port of entry or points of origin in the United States to the treatment facility.

(vii) Regulated articles must be conveyed to the facility in a refrigerated (via motorized refrigeration equipment or other methods including ice or insulation) or air-conditioned conveyance at a temperature that minimizes the mobility of the pests of concern for the article.

(viii) The facility must maintain and provide APHIS with an updated map identifying places where horticultural or other crops are grown within 4 square miles of the facility. Proximity of host material to the facility will necessitate trapping or other pest monitoring activities to help prevent establishment of any escaped pests of concern, as approved by APHIS; these activities will be listed in the compliance agreement required in paragraph (c)(1)(i) of this section. The treatment facility must have a pest management plan within the facility.

(ix) The facility must comply with any additional requirements that APHIS may require to prevent the escape of plant pests during transport to and from the irradiation facility itself, for a particular facility based on local conditions, and for any other risk factors of concern. These activities will be listed in the compliance agreement required in paragraph (c)(1)(i) of this section.

* * * * *

(b) * * * Other agencies that have regulatory oversight and requirements must concur in writing with the establishment of the facility prior to APHIS approval.

(c) * * * Compliance agreements for facilities located in States listed in paragraph (a)(1) of this section may also contain additional provisions as described in paragraphs (a)(1)(i) through (a)(1)(ix) of this section. * * *

* * * * *

(e) * * * Facilities must be located within the local commuting area for APHIS employees for inspection purposes.

(1) * * * Facilities shall be located within an area over which the U.S. Department of Homeland Security is assigned authority to accept entries of merchandise, to collect duties, and to enforce the provisions of the customs and navigation laws in force. * * *

* * * * *

PART 319—FOREIGN QUARANTINE NOTICES

3. The authority citation for part 319 continues to read as follows:

Authority: 7 U.S.C. 450, 7701-7772, and 7781-7786; 21 U.S.C. 136 and 136a; 7 CFR 2.22, 2.80, and 371.3.

§ 319.56-46 [Amended]

4. Section § 319.56-46 is amended as follows:

a. In paragraph (a), by removing the words “in India”.

b. In paragraph (e) introductory text, by removing the words “certifying that the fruit received the required irradiation treatment. The phytosanitry certificate must also bear” and adding the word “with” in their place.

§ 319.56-47 [Amended]

5. Section 319.56-47 is amended as follows:

a. In paragraph (b), by removing the second sentence.

b. In paragraph (c)(1), by removing the words “that the litchi were treated with irradiation as described in paragraph (b) of this section and”.

c. In paragraph (c)(2), by removing the words “with an additional declaration stating that the longan, mango, mangosteen, pineapple, or rambutan were treated with irradiation as described in paragraph (b) of this section”.

Done in Washington, DC, this 22nd day of September 2011.
Edward Avalos,
Under Secretary for Marketing and Regulatory Programs.

[FR Doc. 2011-25092 Filed 9-28-11; 8:45 am]

BILLING CODE 3410-34-P